FEDERAL COMMUNICATIONS COMMISSION

[OMB 3060-1297; FR ID 89569]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.” The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before July 1, 2022.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) Go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-1297.

Title: COVID-19 Vaccine Attestation Form for Non-paid Employees.

Form No.: FCC Form 5644.

Type of Review: Revision of a currently approved collection.

Respondents: Individuals or households.

Number of Respondents and Responses: 140 respondents and 140 responses.

Estimated Time per Response: 0.25 hours.

Frequency of Response: One-time reporting requirement.

Obligation to Respond: Mandatory. The statutory authority to collect this information derives from General Duty Clause; Section 5(a)(1) of the Occupational Safety and Health (OSH) Act of 1970 (29 U.S.C. 654); Executive Order 12196, Occupational safety and health programs for Federal employees (Feb. 26, 1980); Executive Order 13991, Protecting the Federal Workforce and Requiring Mask-Wearing; Executive Order 14043, Requiring Coronavirus Disease 2019 Vaccination for Federal Employees; OMB Memorandum M 21-15, COVID-19 Safe Federal Workplace: Agency Model Safety Principles (Jan. 24, 2021), as amended; and the National Defense Authorization Act For Fiscal Year 2017 (5 U.S.C. 6329c(b)). Information will be collected and maintained in accordance with the Rehabilitation Act of 1973 (29 U.S.C. 791 et seq.).

Total Annual Burden: 35 hours.

Total Annual Cost: No Cost.

Privacy Act Impact Assessment: Yes. Health information collected about FCC staff and visitors to a FCC facility, which may include immunization and vaccination information, is covered by the FCC's Systems of Records Notice (SORN) OMD-33, Ensuring Workplace Health and Safety in Response to a Public Health Emergency, posted at https://www.fcc.gov/sites/default/files/sor-fcc-omd-33.pdf. This system is part of the FCC's ServiceNow platform, which has a Privacy Impact Assessment (PIA) posted at https://www.fcc.gov/sites/default/files/servicenow-pia-10292019.pdf.

Nature and Extent of Confidentiality: As Privacy Act-protected records, these records are kept confidential and will not be disclosed except under applicable Privacy Act exceptions, including the routine uses identified in the FCC/OMD-3 SORN.

Needs and Uses: On September 9, 2021, President Biden issued Executive Order 14043 to protect the health and safety of the Federal workforce and to promote the efficiency of the civil service. Pursuant to the Executive Order and implementing guidance, the Federal Communications Commission (FCC) informed its workforce that, other than in limited circumstances where a reasonable accommodation is legally required, all employees needed to be fully vaccinated against COVID-19 by November 22, 2021, regardless of where they are working. To ensure compliance with this mandate, the FCC established a requirement for employees to complete and submit a form attesting to their current vaccination status. Since then, the Executive Order was enjoined by a nationwide injunction, which has recently been overturned although this latter decision may still be appealed. Regardless of the status of the Executive Order, the FCC has developed and implemented health and safety protocols to ensure and maintain the safety of all occupants during standard operations and public health emergencies or similar health and safety incidents, such as the current pandemic, and will continue to request that workers report on their vaccination status. For some special categories of individuals who perform (or will perform) work for the agency but are not considered employees, the FCC is required to obtain OMB approval prior to collecting such information. These include incoming employees, unpaid interns, unpaid legal fellows, individuals performing work for the FCC pursuant to an Intergovernmental Personnel Agreement, participants in advisory committees, and possibly other similar classes of individuals who are not on the FCC payroll but are performing work for the agency.

Federal Communications Commission.
Marlene Dortch,
Secretary. Office of the Secretary.

[FR Doc. 2022-11738 Filed 5-31-22; 8:45 am]

BILLING CODE 6712-01-P